DEPARTMENT OF ENERGY

Federal Energy Regulatory Commission

Combined Notice of Filings

February 5, 2009.

Take notice that the Commission has received the following Natural Gas Pipeline Rate and Refund Report filings:

Docket Numbers: RP97-313-001.

Applicants: Ozark Gas Transmission, LLC.

Description: Ozark Gas Transmission, LLC submits three negotiated rate agreements between Ozark and Southwestern Energy Services Company.

Filed Date: 02/02/2009.

Accession Number: 20090203-0216.

Comment Date: 5 p.m. Eastern Time on Tuesday, February 17, 2009.

Docket Numbers: RP03-36-041.

Applicants: Dauphin Island Gathering Partners.

Description: Dauphin Island Gathering Partners submits Forty Third Revised Sheet 9 to FERC Gas Tariff, First Revised Volume 1.

Filed Date: 02/02/2009.

Accession Number: 20090203-0214.

Comment Date: 5 p.m. Eastern Time on Tuesday, February 17, 2009.

Docket Numbers: RP08-426-006.

Applicants: El Paso Natural Gas Company.

Description: El Paso Natural Gas Company submits Substitute Original Sheet 28H et al. to FERC Gas Tariff, Second Revised Volume 1A in compliance with the Commission's 1/1/09 order.

Filed Date: 01/21/2009.

Accession Number: 20090123-0378.

Comment Date: 5 p.m. Eastern Time on Monday, February 9, 2009.

Docket Numbers: RP00-426-041.

Applicants: Texas Gas Transmission, LLC.

Description: Texas Gas Transmission, LLC submits First Revised Sheet 52 et al. to Third Revised Volume 1 & a Negotiated Rate Agreement.

Filed Date: 02/03/2009.

Accession Number: 20090204-0046.

Comment Date: 5 p.m. Eastern Time on Tuesday, February 17, 2009.

Docket Numbers: RP08-436-003.

Applicants: Stingray Pipeline Company, L.L.C.

Description: Stingray Pipeline Company, LLC submits Sub. Twentieth Revised Sheet 5 of its FERC Gas Tariff, First Revised Volume 1, to be effective 1/1/09.

Filed Date: 02/03/2009.

Accession Number: 20090204-0047.

Comment Date: 5 p.m. Eastern Time on Tuesday, February 17, 2009.

Docket Numbers: RP09-332-000.

Applicants: Enbridge Pipelines (Midla), L.L.C.

Description: Enbridge Pipelines, LLC submits Third Revised Sheet 111 et al. to FERC Gas Tariff, Fifth Revised Volume 1, to be effective 3/1/09.

Filed Date: 01/30/2009.

Accession Number: 20090203-0104.

Comment Date: 5 p.m. Eastern Time on Wednesday, February 11, 2009.

Docket Numbers: RP09-337-000.

Applicants: Eastern Shore Natural Gas Company.

Description: Eastern Shore Natural Gas Company submits Second Revised Sheet 92 et al. to FERC Gas Tariff, Second Revised Volume 1.

Filed Date: 02/02/2009.

Accession Number: 20090203-0215.

Comment Date: 5 p.m. Eastern Time on Tuesday, February 17, 2009.

Docket Numbers: RP09-338-000.

Applicants: Portland Natural Gas Transmission System.

Description: Portland Natural Gas Transmission System submits First Revised Sheet 343 et al., to FERC Gas Tariff, Second Revised Volume 1.

Filed Date: 01/30/2009.

Accession Number: 20090203-0213.

Comment Date: 5 p.m. Eastern Time on Wednesday, February 11, 2009.

Docket Numbers: RP09-339-000.

Applicants: Tennessee Gas Pipeline Company.

Description: Tennessee Gas Pipeline Company submits Tenth Revised Sheet 324 et al. to its FERC Gas Tariff, Fifth Revised Volume 1 effective 3/5/09.

Filed Date: 02/03/2009.

Accession Number: 20090204-0048.

Comment Date: 5 p.m. Eastern Time on Tuesday, February 17, 2009.

Docket Numbers: RP09-340-000.

Applicants: Columbia Gas Transmission, LLC.

Description: Columbia Gas Transmission, LLC submits Original Sheet 1 et al. to FERC Gas Tariff, Third Revised Volume 1, to be effective 3/3/09

Filed Date: 02/03/2009.

Accession Number: 20090204-0052.

Comment Date: 5 p.m. Eastern Time on Tuesday, February 17, 2009.

Docket Numbers: RP09-341-000.

Applicants: Constellation Energy Commodities Group, Macquarie Cook Energy.

Description: Notice of Change of Ownership, Request for Temporary Waiver, Request for Expedited Action, and Request for Shortened Notice Period of Macquarie Cook Energy, LLC and Constellation Energy Commodities Group, Inc.

Filed Date: 02/04/2009.

Accession Number: 20090204-5073.

Comment Date: 5 p.m. Eastern Time on Tuesday, February 17, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-2859 Filed 2-10-09; 8:45 am]

BILLING CODE 6717-01-P